DEPARTMENT OF THE TREASURY

United States Mint

Pricing for the 2013 Commemorative Coin Programs—Silver and Clad Coin Options

AGENCY: United States Mint, Department of the Treasury.

ACTION: Notice.

SUMMARY: The United States Mint is announcing prices for the 2013 Girl Scouts of the USA Centennial Silver Dollar and the 2013 5-Star Generals Commemorative Coin Program for the silver and clad coin options.

Product | Introductory price | Regular price
2013 Girl Scouts of the USA Centennial Proof Silver Dollar | $54.95 | $59.95
2013 Girl Scouts of the USA Centennial Uncirculated Silver Dollar | 50.95 | 55.95
2013 5-Star Generals Proof Silver Dollar | 54.95 | 59.95
2013 5-Star Generals Uncirculated Silver Dollar | 50.95 | 55.95
2013 5-Star Generals Proof Half Dollar | 17.95 | 21.95
2013 5-Star Generals Uncirculated Half Dollar | 16.95 | 20.95

FOR FURTHER INFORMATION CONTACT: Marc Landry, Acting Associate Director for Sales and Marketing, United States Mint, 801 9th Street NW., Washington, DC 20220; or call 202-354-7500.

Authority: 31 U.S.C. §§ 5111, 5112 & 9701; Pub. L. 111-86, sec. 6; Pub. L. 111-262, sec. 6.

Dated: February 6, 2013.
Richard A. Peterson,
Acting Director, United States Mint.

[FR Doc. 2013-03231 Filed 2-12-13; 8:45 am]

BILLING CODE P